DEPARTMENT OF COMMERCE

Economic Development Administration

Proposed Information Collection; Comment Request; Form ED-840P Petition by a Firm for Certification of Eligibility To Apply for Trade Adjustment Assistance; Trade Adjustment Assistance for Firms Program

AGENCY: Economic Development Administration (EDA), Department of Commerce.

ACTION: Notice.

SUMMARY: The Department of Commerce, as part of its continuing effort to reduce paperwork and respondent burden, invites the general public and other federal agencies to take this opportunity to comment on proposed and/or continuing information collections, as required by the Paperwork Reduction Act of 1995.

DATES: Written comments must be submitted on or before February 16, 2010.

ADDRESSES: Direct all written comments to Diana Hynek, Departmental Paperwork Clearance Officer, Department of Commerce, Room 7845, 14th and Constitution Avenue, NW., Washington, DC 20230 (or via the Internet at dHynek@doc.gov).

FOR FURTHER INFORMATION CONTACT: Requests for additional information or copies of the information collection instrument and instructions should be directed to Diane Rodriguez, Program Analyst, Performance and National Programs Division, Room 7009, Economic Development Administration, Washington, DC 20230, telephone (202) 482-4495, facsimile (202) 482-2838 (or via the Internet at drodriguez@eda.doc.gov).

SUPPLEMENTARY INFORMATION:

I. Abstract

EDA administers the Trade Adjustment Assistance for Firms (TAAF) Program, which is authorized under chapters 3 and 5 of title II of the Trade Act of 1974, as amended (19 U.S.C. 2341 et seq.) (Trade Act), through a national network of 11 non-profit and university-affiliated Trade Adjustment Assistance Centers (TAACs), each of which serves a different geographic service region. EDA certifies firms as eligible to participate in the TAAF Program and provides funding to allow eligible client-firms to receive adjustment assistance through the TAACs. The information collected on Form ED-840P and relevant supporting documentation is used to determine if a firm is eligible to participate in the program. In accordance with the Trade Act and EDA's regulations as set out at 13 CFR part 315, EDA must verify that the following have occurred: (1) A significant reduction in the number or proportion of the workers in the firm, a reduction in the workers' wage or work hours, or an imminent threat of such reductions; (2) sales or production of the firm have decreased absolutely, as defined in EDA's regulations, or sales or production, or both, of any article or service accounting for at least 25 percent of the firm's sales or production has decreased absolutely; and (3) an increase in imports of articles or services like or directly competitive with those produced or provided by the petitioning firm has contributed importantly to the decline in employment and sales or production of the firm. Additionally, the firm must demonstrate that its customers have reduced purchases from the firm in favor of buying items or services from foreign suppliers. The use of the form standardizes and limits the information collected as part of the certification process and eases the burden on applicants and reviewers alike.

After being determined eligible for TAAF Program assistance using the information provided on Form ED-840P, firms must create an EDA-approved adjustment proposal, which is each firm's business plan to remain viable in the current global economy, in order to receive financial assistance under the TAAF Program. Each adjustment proposal must meet certain requirements as set out in the Trade Act and EDA's regulation at 13 CFR 315.16. This notice also includes an estimate for adjustment proposals.

Form ED-840P was renewed in June 2009; however, an emergency request was submitted to the Office of Management and Budget due to the eligibility changes in the Trade Adjustment Assistance for Firms Program as specified in the Trade and Globalization Adjustment Assistance Act (TGAAA) of 2009, which reauthorized the program. OMB approved this emergency request on August 12, 2009, and because of the time constraints of the emergency request, a notice for public comment was not processed. The emergency request is valid for six months and this notice will begin the process to extend the approval.

In order to comply with and facilitate new reporting and eligibility requirements as stated in the TGAAA, three new collection items have been added to the form. In addition, a fourth item was recommended by the TAAC Petition Team. Following are the changes to Form ED-840P:

(1) Item 1 has been revised so that a firm's congressional district may be recorded. This will allow EDA to comply with the statutory requirement to report the number of petitions and certifications by congressional district.

(2) Item 6 has been revised so that petitioners may clarify whether they are using decline in net sales or net production to qualify. This will allow a more accurate calculation of a firm's productivity measure, which EDA is calculating as net sales per employee. EDA is required to report on a firm's productivity at time of certification, upon completion of the program, and each year for the two years thereafter.

(3) The eligibility criteria have been revised to allow for a 24 or 36-month look-back period. Item 6 of Form ED-840P has been revised so that petitioners can clearly indicate their look-back period.

(4) As recommended by the TAACs, Item 12 has been revised to allow the respective TAAC Director to sign certifying the accuracy and completeness of the petition information.

II. Method of Collection

Form ED-840P may be downloaded in Portable Document Format (PDF) from EDA's Web site at http://www.eda.gov/InvestmentsGrants/Directives.xml. Although there is no form associated with adjustment proposals, they must meet the requirements set out in EDA's regulation at 13 CFR 315.16. Both petitions for certification on Form ED-840P and adjustment proposals may be submitted via e-mail to taac@eda.doc.gov or in hard copy to EDA at 1401 Constitution Avenue, NW., Room 7106, Washington DC 20230.

III. Data

OMB Control Number: 0610-0091.

Form Number(s): ED-840P.

Type of Review: Regular submission.

Affected Public: Business or other for-profit organizations.

Estimated Number of Respondents: 800 (500 petitions for certification and 300 adjustment proposals).

Estimated Time Per Response: 128.2 hours (8.2 for petitions for certification and 120 for adjustment proposals)

Estimated Total Annual Burden Hours: 40,100 (4,100 for petitions for certification and 36,000 for adjustment proposals).

Estimated Total Annual Cost to Public: $0.

IV. Request for Comments

Comments are invited on: (1) Whether the proposed collection of information is necessary for the proper performance of the functions of the agency, including whether the information shall have practical utility; (2) the accuracy of the agency's estimate of the burden (including hours and cost) of the proposed collection of information; (3) ways to enhance the quality, utility, and clarity of the information to be collected; and (4) ways to minimize the burden of the collection of information on respondents, including through the use of automated collection techniques or other forms of information technology.

Comments submitted in response to this notice will be summarized and/or included in the request for OMB approval of this information collection; they also will become a matter of public record.

Dated: December 10, 2009.
Gwellnar Banks,
Management Analyst, Office of the Chief Information Officer.

[FR Doc. E9-29856 Filed 12-15-09; 8:45 am]

BILLING CODE 3510-34-P